DEPARTMENT OF JUSTICE

Notice of Lodging of Consent Decree Pursuant to the Clean Air Act

Notice is hereby given that on July 28, 2011, a proposed Consent Decree in United States v. Caterpillar Inc., Civ. A. No. 11-1373 (BAH) was lodged with the United States Court for the District of Colombia. In this action, Plaintiff the United States sought penalties and injunctive relief for violations of the Clean Air Act (“CAA”) by Caterpillar Inc.

Pursuant to the proposed Consent Decree, Defendants will pay to the United States and State of California (pursuant to a separate agreement) a total of $2,550,000 in civil penalties and undertake injunctive measures designed to correct past violations and prevent their reoccurrence.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, D.C. 20044-7611, and should refer to United States v. Caterpillar Inc., Civ. A. No. 11-1373 (BAH) (District of Colombia, Department of Justice Case Number 90-5-2-1-09846.

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7 (25 cents per page reproduction cost) payable to the U.S. Treasury.

Karen Dworkin,
Assistant Section Chief.

[FR Doc. 2011-19716 Filed 8-3-11; 8:45 am]

BILLING CODE 4410-15-P